GENERAL SERVICES ADMINISTRATION

48 CFR Part 504

[GSAR Change 80; GSAR Case 2016-G508; Docket No. 2016-0020; Sequence No. 1]

RIN 3090-AJ80

General Services Administration Acquisition Regulation (GSAR); Update Contract Reporting Responsibilities

AGENCY: Office of Acquisition Policy, General Services Administration (GSA).

ACTION: Final rule.

SUMMARY: The General Services Administration (GSA) is amending the General Services Administration Acquisition Regulation (GSAR) to remove the section regarding contract reporting in the Federal Procurement Data System (FPDS) and to add a nonregulatory section in the General Services Acquisition Manual (GSAM).

DATES: Effective: January 3, 2017.

FOR FURTHER INFORMATION CONTACT: Ms. Janet Fry, Procurement Analyst, at 703-605-3167, for clarification of content. For information pertaining to status or publication schedules, contact the Regulatory Secretariat Division at 202-501-4755. Please cite GSAR Case 2016-G508.

SUPPLEMENTARY INFORMATION:

I. Discussion of Changes

In accordance with FAR section 4.604, the GSA Senior Procurement Executive, in coordination with the head of contracting activities, established internal procedures to monitor contractual actions entered into FPDS by the GSA acquisition workforce. The internal GSA procedures were incorrectly published in the GSAR. Therefore the GSA is amending the GSAR to remove section 504.604 regarding the internal processes for reporting and reviewing the accuracy of contract actions reported.

The internal GSA procedures will be established as a nonregulatory section in the GSAM and communicated to the GSA acquisition workforce through a GSA internal policy letter (i.e., GSA Order). Even though the GSAM guidance is not included with the regulatory changes of this rule, it will be publicly available on https://www.acquisition.gov/?q=browsegsam.

II. Public Comments Not Required

41 U.S.C. 1707, Publication of proposed regulations, applies to the publication of the General Services Administration Acquisition Regulation. Paragraph (a)(1) of the statute requires that a procurement policy, regulation, procedure or form (including amendment or modification thereof) must be published for public comment if it has either a significant effect beyond the internal operating procedures of the agency issuing the policy, regulation, procedure, or form or has a significant cost or administrative impact on contractor or offerors. This final rule is not required to be published for public comment, because there is no affect beyond internal operating procedures, nor does the rule impact contractors or offerors.

III. Executive Order 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of Executive Order 12866, Regulatory Planning and Review, dated September 30, 1993. This rule is not a major rule under 5 U.S.C. 804.

IV. Regulatory Flexibility Act

The Regulatory Flexibility Analysis does not apply to this rule because this final rule does not constitute a significant GSAR revision and 41 U.S.C. 1707 does not require publication for public comment.

V. Paperwork Reduction Act

This final rule does not contain any information collection that requires additional approval of the Office of Management and Budget under the Paperwork Reduction Act (44 U.S.C. Chapter 35).

List of Subjects in 48 CFR Part 504

Government procurement.

Dated: December 23, 2016.
Nicholas West,
Acting Senior Procurement Executive, Acting Director, Office of Acquisition Policy, Office of Governmentwide Policy.

Therefore, GSA is amending 48 CFR part 504 as set forth below:

PART 504—ADMINISTRATIVE MATTERS

1. The authority citation for 48 CFR part 504 continues to read as follows:

Authority: 40 U.S.C. 121(c).

504.604 [Removed]

2. Remove section 504.604.

[FR Doc. 2016-31529 Filed 12-30-16; 8:45 am]

BILLING CODE 6820-EP-P